DEPARTMENT OF LABOR

Employment and Training Administration

[TA-W-53,854 and TA-W-53,854B]

Warnaco Group, Inc., Milford, Connecticut; Including an Employee of Warnaco Group, Inc., Milford, Connecticut Located in the State of Florida; Amended Certification Regarding Eligibility To Apply for Worker Adjustment Assistance

In accordance with Section 223 of the Trade Act of 1974 (19 U.S.C. 2273) the Department of Labor issued a Certification of Eligibility To Apply for Worker Adjustment Assistance on February 3, 2004, applicable to workers of Warnaco Group, Inc., Milford, Connecticut and Stratford, Connecticut. The notice was published in the Federal Register on March 12, 2004 (69 FR 11889).

At the request of the State agency, the Department reviewed the certification for workers of the subject firm. The workers were engaged in administration support activities for the subject firm's production facility located in Thomasville, Georgia.

New information shows that a worker separation occurred involving an employee of the Milford, Connecticut facility of Warnaco Group located in the state of Florida. This employee provided administrative support function services for the production of women's intimate apparel at the Thomasville, Georgia location of the subject firm.

Based on these findings, the Department is amending this certification to include an employee of the Milford, Connecticut facility of Warnaco Group, Inc. located in the state of Florida.

The intent of the Department's certification is to include all workers of Warnaco Group, Inc. who were adversely affected by increased imports.

The amended notice applicable to TA-W-53,854 is hereby issued as follows:

“All workers of Warnaco Group, Milford, Connecticut (TA-W-53,854), including an employee located in the state of Florida (TA-W-53,854B), who became totally or partially separated from employment on or after December 18, 2002, through February 3, 2006, are eligible to apply for adjustment assistance under Section 223 of the Trade Act of 1974.”

Signed at Washington, DC, this 30th day of July 2004.
Richard Church,
Certifying Officer, Division of Trade Adjustment Assistance.

[FR Doc. 04-18235 Filed 8-9-04; 8:45 am]

BILLING CODE 4510-30-P